ENVIRONMENTAL PROTECTION AGENCY

[EPA-HQ-ORD-2018-0774; FRL-10007-87-OMS]

Information Collection Request Submittal to OMB for Review and Approval; Comment Request; Evaluating End User Satisfaction of EPA's Research Products (New)

AGENCY: Environmental Protection Agency (EPA).

ACTION: Notice.

SUMMARY: The Environmental Protection Agency (EPA) has submitted an information collection request (ICR), Evaluating End User Satisfaction of EPA's Research Products (EPA ICR Number 2593.01, OMB Control Number 2080-NEW) to the Office of Management and Budget (OMB) for review and approval in accordance with the Paperwork Reduction Act. This is a new request. Public comments were previously requested via the Federal Register on September 13, 2019 during a 60-day comment period. This notice allows for an additional 30 days for public comments. A fuller description of the ICR is given in this notice, including the ICR's estimated burden and cost to the public. An agency may not conduct or sponsor and a person is not required to respond to a collection of information unless it displays a currently valid OMB control number.

DATES: Additional comments may be submitted on or before May 8, 2020.

ADDRESSES: Submit your comments, referencing Docket ID No. EPA-HQ-ORD-2018-0774, to (1) EPA online using www.regulations.gov (EPA's preferred method), by email to ow-docket@epa.gov or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Sean Paul, U.S. Environmental Protection Agency, Office of Program Accountability and Resource Management, Office of Research and Development, Mail Code 41182, 1200 Pennsylvania Ave. NW, Washington, DC 20460; telephone number: (202) 564-7099; fax number: (202) 565-2910; email address: paul.sean@epa.gov.

SUPPLEMENTARY INFORMATION: Supporting documents, which explain in detail the information that EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The purpose of this information collection is to survey stakeholders currently using the EPA's Office of Research and Development's (ORD) scientific research products to increase transparency and public participation, and to ascertain the quality, usability, and timeliness of the research products. ORD will collect these data to inform the annual end of year performance reporting to the Office of Management and Budget (OMB) that will be published each year in the Annual Performance Report (APR), which is part of the President's Budget Request and mandated under the Government Performance and Results Act (GPRA). The survey results will be used to estimate the degree to which ORD research products meet customer needs and will enable the improvement of the development and delivery of products. Some of the information reported on the form is confidential, which will be withheld from the public pursuant to Section 107(1) of the Ethics in Government Act of 1978. Participation is voluntary.

Form numbers: None.

Respondents/affected entities: Life, physical and social science professionals.

Respondent's obligation to respond: Voluntary.

Estimated number of respondents: 250 (total).

Frequency of response: Annually.

Total estimated burden: 83 hours (per year). Burden is defined at 5 CFR 1320.03(b).

Total estimated cost: $4,785 (per year) which includes $0 annualized capital or O&M costs.

Changes in estimates: The new burden in this ICR survey of individuals currently using ORD's products, which is part of a new framework to evaluate ORD's scientific research products.

Courtney Kerwin,
Director, Regulatory Support Division.

[FR Doc. 2020-07329 Filed 4-7-20; 8:45 am]

BILLING CODE 6560-50-P